DEPARTMENT OF AGRICULTURE

Agricultural Marketing Service

7 CFR Part 27

[Doc. No. AMS-CN-22-0061]

Redefining Bona Fide Cotton Spot Markets

AGENCY: Agricultural Marketing Service, USDA.

ACTION: Technical amendment.

SUMMARY: On August 1, 2023, the Agricultural Marketing Service (AMS) published a rule amending the regulation that redefines two of the seven designated spot markets and changing the names of the affected markets. The amendatory language in this rule did not provide instructions necessary to effectuate the changes in the Code of Federal Regulations. This action corrects the names and definitions of the two affected cotton spot markets.

DATES: Effective October 6, 2023.

FOR FURTHER INFORMATION CONTACT: Barbara Meredith, Division Director, Cotton Market News, Cotton & Tobacco Program, AMS, USDA, 3275 Appling Road, Room 10, Memphis, TN 38133. Telephone: (901) 384-3300, or Email: Barbara.Meredith@usda.gov.

SUPPLEMENTARY INFORMATION: A final rule published in the Federal Register on August 1, 2023 (88 FR 49993) revised the regulations concerning bona fide spot market definitions, redefining which counties and states compose each of these spot markets. Specifically, the rule removed the terms “East Texas and Oklahoma” and “West Texas”, and added the terms “East Texas and South Texas” and “West Texas, Kansas, and Oklahoma.” Furthermore, the rule removed the definitions of “East Texas and Oklahoma” and “West Texas” and added the definitions of “East Texas and South Texas” and “West Texas, Kansas, and Oklahoma” in their place. This action corrects the names and definitions of the two spot markets.

List of Subjects in 7 CFR Part 27

Commodity futures, Cotton.

For the reasons set forth in the preamble, the Agricultural Marketing Service amends 7 CFR part 27 with the following technical amendment:

PART 27—[Amended]

1. The authority citation for 7 CFR part 27 continues to read as follows:

Authority: 7 U.S.C. 15b, 7 U.S.C. 473b, 7 U.S.C. 1622(g).

2. Amend § 27.93:

a. Revising the introductory paragraph of the extract;

b. By removing the definitions of “East Texas and Oklahoma” and “West Texas” and;

c. By adding the definitions of “East Texas and South Texas” and “West Texas, Kansas, and Oklahoma” in their place.

The additions and revision read as follows:

§ 27.93 Bona fide spot markets.

The following markets have been determined, after investigation, and are hereby designated to be bona fide spot markets within the meaning of the act:

Southeastern; North Delta; South Delta; East Texas and South Texas; West Texas, Kansas and Oklahoma; Desert Southwest; and San Joaquin Valley. Such markets will comprise the following areas:

* * * * *

East Texas and South Texas

Texas counties east of and including Montague, Wise, Parker, Erath, Comanche, Mills, San Saba, Mason, Sutton, Edwards, Kinney, Maverick, Webb, Zapata, Star, and Hidalgo counties.

West Texas, Kansas, and Oklahoma

All counties in Kansas and Oklahoma, all Texas counties not included in the East Texas, South Texas, and Desert Southwest Markets, and the New Mexico counties of Union, Quay, Curry, Roosevelt, and Lea.

* * * * *

Melissa Bailey,
Associate Administrator, Agricultural Marketing Service.

[FR Doc. 2023-22180 Filed 10-5-23; 8:45 am]

BILLING CODE P